DEPARTMENT OF JUSTICE

Office of Justice Programs

[OJP(OJJDP) Docket No. 1399]

Office of Juvenile Justice and Delinquency Prevention: Meeting of the Coordinating Council on Juvenile Justice and Delinquency Prevention

AGENCY: Office of Juvenile Justice and Delinquency Prevention, Office of Justice Programs, Justice.

ACTION: Notice of meeting.

SUMMARY: The Coordinating Council on Juvenile Justice and Delinquency Prevention (Council) is announcing the June 4, 2004, meeting of the Council.

DATES: Friday, June 4, 2004, from 9:30 a.m. to 1 p.m.

ADDRESSES: The meeting will take place at the White House Conference Center (Truman Room), 726 Jackson Place, NW., Washington, DC.

FOR FURTHER INFORMATION CONTACT: Timothy Wight, Designated Federal Official for the Coordinating Council on Juvenile Justice and Delinquency Prevention, OJJDP, by telephone at (202) 514-2190, or by e-mail at WightT@ojp.usdoj.gov.

SUPPLEMENTARY INFORMATION: The Coordinating Council on Juvenile Justice and Delinquency Prevention, established pursuant to section 3(2)A of the Federal Advisory Committee Act (5 U.S.C. App. 2), will meet to carry out its advisory functions under section 206 of the Juvenile Justice and Delinquency Prevention Act of 2002, 42 U.S.C. 5601, et seq. Documents such as meeting announcements, agendas, minutes, and interim and final reports will be available on the Council's Web page at http://www.ojjdp.ncjrs.org/council/index.html. (You may also verify the status of the meeting at that Web address.)

The agenda for this meeting will include: (a) Review of past Council actions, (b) coordination of mentoring programs, and (c) discussion of the Final Report of the White House Task Force for Disadvantaged Youth.

Written Comments: Interested parties may submit written comments by May 21, 2004, to Timothy Wight, Designated Federal Official for the Coordinating Council on Juvenile Justice and Delinquency Prevention, OJJDP, at WightT@ojp.usdoj.gov. The Coordinating Council on Juvenile Justice and Delinquency Prevention expects public statements presented at its meetings will not be repetitive of previously submitted statements. No oral comments will be permitted at this meeting.

For security purposes, members of the public who wish to attend the meeting must pre-register by calling the Juvenile Justice Resource Center at 301-519-6473 (Daryel Dunston) or 301-519-5790 (Karen Boston), no later than May 21, 2004. To register on-line, please go to http://www.ojjdp.ncjrs.org/council/meetings.html. Space is limited.

Note: Photo identification will be required for admission to the meeting.

Dated: May 12, 2004.
J. Robert Flores,
Administrator, Office of Juvenile Justice and Delinquency Prevention, and Vice-Chair, Coordinating Council on Juvenile Justice and Delinquency Prevention.

[FR Doc. 04-11129 Filed 5-17-04; 8:45 am]

BILLING CODE 4410-18-P